DEPARTMENT OF COMMERCE

National Oceanic and Atmospheric Administration

Agency Information Collection Activities; Submission to the Office of Management and Budget (OMB) for Review and Approval; Comment Request; Central Gulf of Alaska Rockfish Program: Permits and Reports

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 19, 2023, during a 60-day comment period. This notice allows for an additional 30 days for public comments.

Agency: National Oceanic & Atmospheric Administration (NOAA), Commerce.

Title: Central Gulf of Alaska Rockfish Program: Permits and Reports.

OMB Control Number: 0648-0545.

Form Number(s): None.

Type of Request: Regular submission (extension of a current information collection).

Number of Respondents: 6.

Average Hours per Response: Application for Rockfish Cooperative Fishing Quota: 2 hours; Application for Inter-Cooperative Transfer of Rockfish Cooperative Quota: 10 minutes; Rockfish Program Vessel Check-In/Check-Out: 10 minutes; Termination of Fishing Report: 10 minutes.

Total Annual Burden Hours: 39 hours.

Needs and Uses: This information collection contains requirements for the Central Gulf of Alaska Rockfish Program (Rockfish Program) and is necessary for NMFS to administer and monitor compliance with the management provisions of the Rockfish Program. This information collection is required in Rockfish Program regulations at 50 CFR part 679.

The Rockfish Program is a limited access privilege program developed to enhance resource conservation and improve economic efficiency in the Central Gulf of Alaska rockfish fisheries. The rockfish fisheries are conducted in Federal waters near Kodiak, Alaska, by trawl vessels and longline vessels. The Rockfish Program assigns quota share (QS) to License Limitation Program (LLP) licenses for rockfish primary and secondary species based on legal landings associated with that LLP.

Each year, an LLP license holder assigns the LLP license with rockfish QS to a rockfish cooperative. Each rockfish cooperative receives an annual cooperative fishing quota (CQ), which is an amount of primary and secondary rockfish species the cooperative is able to harvest in that fishing year.

This collection contains the information collection requirements submitted by the rockfish cooperatives for an annual rockfish CQ permit, inter-cooperative quota transfers, vessel check-in/check-out reports, and termination of fishing reports.

The Application for Rockfish Cooperative Fishing Quota is submitted annually by a rockfish cooperative to receive the cooperative's annual CQ permit. The application collects rockfish cooperative identification information, LLP holder and ownership documentation for the members of the cooperative applying for QS, identification information for vessels of the cooperative members, shoreside processor associate identification information, certifications of the cooperative representative and processor associate(s), and required attachments.

The Application for Inter-Cooperative Transfer of CQ is used by a rockfish cooperative to transfer CQ to another rockfish cooperative. The information collected includes information on the QS to be transferred. This information is used by NMFS to monitor transfers to ensure they do not exceed ownership or use caps for the fishery.

The Rockfish Program vessel check-in report must be submitted before a vessel authorized to fish under the cooperative's permit starts fishing for the cooperative, and a check-out report when a vessel stops fishing for the cooperative during the fishing season. The check-in and check-out reports are necessary so that NMFS's catch accounting system can identify catch by a vessel that should accrue to a rockfish cooperative quota allocation from catch that occurs in other, non-Rockfish Program fisheries.

A rockfish cooperative may choose to terminate its CQ permit through a termination of fishing report submitted to NMFS. This notifies NMFS that all vessels fishing for the cooperative have completed fishing in the Rockfish Program for the year.

Affected Public: Business or other for-profit organizations.

Frequency: Annually; as needed.

Respondent's Obligation: Voluntary; Required to Obtain or Retain Benefits; Mandatory.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0545.

Sheleen Dumas,
Department PRA Clearance Officer, Office of the Under Secretary for Economic Affairs, Commerce Department.

[FR Doc. 2024-03621 Filed 2-21-24; 8:45 am]

BILLING CODE 3510-22-P